NATIONAL AERONAUTICS AND SPACE ADMINISTRATION

[Notice (05-163)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: December 9, 2005.

FOR FURTHER INFORMATION CONTACT: Kent N. Stone, Patent Counsel, Glenn Research Center at Lewis Field, Code 500-118, Cleveland, OH 44135; telephone (216) 433-8855; fax (216) 433-6790.

NASA Case No. LEW-17694-1: Apparatus And Method For Packaging And Integrating Microphotonic Devices;

NASA Case No. LEW-17353-2: Series Connected Buck Boost Converter;

NASA Case No. LEW-17661-1: Actuator Operated Microvalves;

NASA Case No. LEW-17630-1: Bi-Electrode Supported Cell For High Power Density Solid Oxide Fuel Cells;

NASA Case No. LEW-17634-1: Monolithic Solid Oxide Fuel Cell Stack With Symmetrical Bi-Electrode Supported Cells.

Dated: December 5, 2005.
Keith T. Sefton,
Deputy General Counsel, Administration and Management.

[FR Doc. E5-7166 Filed 12-8-05; 8:45 am]

BILLING CODE 7510-13-P